DEPARTMENT OF JUSTICE

Drug Enforcement Administration

[Docket No. DEA-604]

Bulk Manufacturer of Controlled Substances Application: Johnson Matthey Inc.

ACTION: Notice of application.

DATES: Registered bulk manufacturers of the affected basic class(es), and applicants therefore, may file written comments on or objections to the issuance of the proposed registration on or before May 26, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on February 7, 2020, Johnson Matthey Inc., 2003 Nolte Drive, West Deptford, New Jersey 08066-1742 applied to be registered as a bulk manufacturer of the following basic class(es) of controlled substance:

Controlled substance | Drug code | Schedule
4-Anilino-N-phenethyl-4-piperidine (ANPP) | 8333 | II

The company plans to manufacture the above-listed controlled substance internally as intermediates or for sale to their customers. No other activities for this drug code is authorized for this registration.

Dated: March 12, 2020.
William T. McDermott,
Assistant Administrator.

[FR Doc. 2020-06175 Filed 3-23-20; 8:45 am]

BILLING CODE 4410-09-P